DEPARTMENT OF COMMERCE

Foreign-Trade Zones Board

[S-53-2018]

Foreign-Trade Zone 119—Minneapolis-St. Paul, Minnesota; Application for Subzone; AGCO Corporation, Jackson and Round Lake, Minnesota

An application has been submitted to the Foreign-Trade Zones (FTZ) Board by the Greater Metropolitan Area Foreign Trade Zone Commission, grantee of FTZ 119, requesting subzone status for the facilities of AGCO Corporation (AGCO), located in Jackson and Round Lake, Minnesota. The application was submitted pursuant to the provisions of the Foreign-Trade Zones Act, as amended (19 U.S.C. 81a-81u), and the regulations of the FTZ Board (15 CFR part 400). It was formally docketed on April 5, 2018.

The proposed subzone would consist of the following sites: Site 1 (196 acres) 202 Industrial Park, Jackson, Jackson County; Site 2 (31.42 acres) One Sather Plaza, Round Lake, Nobles County; Site 3 (6.34 acres) 170 Industrial Plaza, Jackson, Jackson County; and, Site 4 (5 acres) 136 550th Avenue, Jackson, Jackson County. No authorization for production activity has been requested at this time. The proposed subzone would be subject to the existing activation limit of FTZ 119.

In accordance with the FTZ Board's regulations, Elizabeth Whiteman of the FTZ Staff is designated examiner to review the application and make recommendations to the Executive Secretary.

Public comment is invited from interested parties. Submissions shall be addressed to the FTZ Board's Executive Secretary at the address below. The closing period for their receipt is May 21, 2018. Rebuttal comments in response to material submitted during the foregoing period may be submitted during the subsequent 15-day period to June 4, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Elizabeth Whiteman at Elizabeth.Whiteman@trade.gov or (202) 482-0473.

Dated: April 5, 2018.
Andrew McGilvray,
Executive Secretary.

[FR Doc. 2018-07322 Filed 4-9-18; 8:45 am]

BILLING CODE 3510-DS-P